DEPARTMENT OF ENERGY

Proposed Agency Information Collection

AGENCY: U.S. Department of Energy.

ACTION: Notice and request for comments.

SUMMARY: The Department of Energy (DOE) invites public comment on a proposed collection of information that DOE is developing for submission to the Office of Management and Budget (OMB) pursuant to the Paperwork Reduction Act of 1995. Comments are invited on: (a) Whether the proposed collection of information is necessary for the proper performance of the functions of the agency, including whether the information shall have practical utility; (b) the accuracy of the agency's estimate of the burden of the proposed collection of information, including the validity of the methodology and assumptions used; (c) ways to enhance the quality, utility, and clarity of the information to be collected; and (d) ways to minimize the burden of the collection of information on respondents, including through the use of automated collection techniques or other forms of information technology.

DATES: Comments regarding this proposed information collection must be received on or before May 6, 2014. If you anticipate difficulty in submitting comments within that period, contact the person listed in ADDRESSES as soon as possible.

ADDRESSES: Written comments may be sent to LaReina Parker, Office of Nonproliferation and International Security, NA-24, National Nuclear Security Administration, Department of Energy, 1000 Independence Avenue SW., Washington, DC 20585, telephone, (202) 586-6493, or by fax at (202) 586-2164, or by email at Part810.SNOPR@hq.doe.gov.

FOR FURTHER INFORMATION CONTACT: Requests for additional information or copies of the information collection instrument and instructions should be directed to LaReina Parker, Office of Nonproliferation and International Security, NA-24, National Nuclear Security Administration, Department of Energy, 1000 Independence Avenue SW., Washington, DC 20585, telephone, (202) 586-6493; Part810.SNOPR@hq.doe.gov.

SUPPLEMENTARY INFORMATION: This information collection request contains: (1) OMB No. 1901-0263; (2) Information Collection Request Title: Assistance to Foreign Atomic Energy Activities; (3) Type of Request: Reinstatement; (4) Purpose: Information will be collected from persons who directly or indirectly engage or participate in the development or production of special nuclear material outside the United States. Information will be used to inform commercial nuclear licensing and policy decisions; (5) Annual Estimated Number of Respondents: 145; (6) Annual Estimated Number of Total Responses: 322; (7) Annual Estimated Number of Burden Hours: 966; (8) Annual Estimated Reporting and Recordkeeping Cost Burden: $999.50.

Authority: Section 57 b.(2) of the Atomic Energy Act (AEA) of 1954, as amended by section 302 of the Nuclear Nonproliferation Act of 1978 (NNPA) enacted by Public Law 95-242.

Issued in Washington, DC, on February 27, 2014.
Richard Goorevich,
Senior Policy Advisor, Office of Nonproliferation and International Security.

[FR Doc. 2014-04984 Filed 3-6-14; 8:45 am]

BILLING CODE 6450-01-P